DEPARTMENT OF THE INTERIOR

Bureau of Land Management

[NM-930-4120-EQ; NMNM 107171]

Invitation To Participate; Exploration for Coal in New Mexico

AGENCY: Bureau of Land Management, Interior.

ACTION: Notice.

SUMMARY: Members of the public are hereby invited to participate with San Juan Coal Company on a pro rata cost sharing basis, in a program for the exploration of coal deposits owned by the United States of America.

SUPPLEMENTARY INFORMATION: The lands are located in San Juan County, New Mexico, and are described as follows:

T. 30 N., R. 14 W., NMPM

Sec. 9: All;

Sec. 10: Lots 1, 2, 3, 4, S½N½, S½;

Sec. 15: All;

Sec. 21: All;

Sec. 22: All;

Sec. 27: All;

Sec. 28: All;

Sec. 33: Lots 1, 2, 3, 4, N½, N½S½;

Sec. 34: Lots 1, 2, 3, 4, 5, 6, 7, 8, N½, N½S½;

Containing 5,802.15 acres, more or less. Interested parties may obtain a complete description of the lands covered in the license application by contacting the San Juan Coal Company, or the Bureau of Land Management, New Mexico State Office, Solid Minerals Adjudication, PO Box 27115, Santa Fe, NM 87502-0115.

Any parties electing to participate in this exploration program shall notify in writing, both the State Director, Bureau of Land Management, New Mexico State Office, PO Box 27115, Santa Fe, NM 87502-0115, and the San Juan Coal Company, PO Box 561, Waterflow, NM 87421. Such written notice must include a justification for wanting to participate and any recommended changes in the exploration plan with specific reasons for such changes. The notice must be received no later than 30-calendar days after the publication of this notice in the Federal Register.

This proposed exploration program is for the purpose of determining the quality and quantity of the coal in the area and will be conducted pursuant to an exploration plan to be approved by the Bureau of Land Management. A copy of the exploration plan as submitted by the San Juan Coal Company may be examined at the Bureau of Land Management, New Mexico State Office, 1474 Rodeo Road, Santa Fe, NM 87505, and the Bureau of Land Management, Farmington Field Office, 1235 La Plata Highway, Suite A, Farmington, NM 87401.

Dated: October 10, 2001.
M.J. Chávez,
State Director.

[FR Doc. 01-27423 Filed 10-31-01; 8:45 am]

BILLING CODE 4310-32-P